DEPARTMENT OF AGRICULTURE

Agricultural Research Service

Notice of Intent To Grant Exclusive License

AGENCY: Agricultural Research Service, USDA.

ACTION: Notice of intent.

SUMMARY: Notice is hereby given that the U.S. Department of Agriculture, Agricultural Research Service, intends to grant to Danisco A/S of Copenhagen, Denmark, an exclusive license to U.S. Patent No. 6,989,370, “Bacteriocins and Novel Bacterial Strains”, issued on January 24, 2006; U.S. Patent No. 7,132,102, “Bacteriocins and Novel Bacterial Strains”, issued on November 7, 2006; U.S. Patent No. 7,321,024, “Bacteriocins and Novel Bacterial Strains”, issued on January 22, 2008; U.S. Patent No. 7,354,904, “Bacteriocin Inducer Peptides”, issued on April 8, 2008; U.S. Patent No. 7,452,544, “Bacteriocins and Novel Bacterial Strains”, issued on November 18, 2008; U.S. Patent Application Serial No. 11/099,456, “Novel Enterococcus and Streptococcus Strains and Bacteriocins”, filed on April 5, 2005; U.S. Patent Application Serial No. 11/782,223, “Bacteriocin Inducer Peptides”, filed on July 24, 2007; and U.S. Patent Application Serial No. 11/859,166, “Bacteriocins and Novel Bacterial Strains”, filed on September 9, 2007.

DATES: Comments must be received by March 26, 2009.

ADDRESSES: Send comments to: USDA, ARS, Office of Technology Transfer, 5601 Sunnyside Avenue, Rm. 4-1174, Beltsville, Maryland 20705-5131.

FOR FURTHER INFORMATION CONTACT: June Blalock of the Office of Technology Transfer at the Beltsville address given above; telephone: 301-504-5989.

SUPPLEMENTARY INFORMATION: The Federal Government's patent rights in these inventions are assigned to the United States of America, as represented by the Secretary of Agriculture. It is in the public interest to so license these inventions as Danisco A/S of Copenhagen, Denmark has submitted a complete and sufficient application for a license. The prospective exclusive license will be royalty-bearing and will comply with the terms and conditions of 35 U.S.C. 209 and 37 CFR 404.7. The prospective exclusive license may be granted unless, within thirty (30) days from the date of this published Notice, the Agricultural Research Service receives written evidence and argument which establishes that the grant of the license would not be consistent with the requirements of 35 U.S.C. 209 and 37 CFR 404.7.

Richard J. Brenner,
Assistant Administrator.

[FR Doc. E9-3848 Filed 2-23-09; 8:45 am]

BILLING CODE 3410-03-P